DEPARTMENT OF THE INTERIOR

Fish and Wildlife Service

[FWS-R9-FHC-2008-N0124]; [94300-1122-0000-Z2]

Wind Turbine Guidelines Advisory Committee; Announcement of Public Meeting

AGENCY: Fish and Wildlife Service, Interior.

ACTION: Notice of public meeting.

SUMMARY: We, the U.S. Fish and Wildlife Service (Service), will host a Wind Turbine Guidelines Advisory Committee (Committee) workshop, on June 18, 2008. The workshop is open to the public. The workshop agenda will include the discussion and clarification of objectives to guide the Committee in its development of recommendations to the Secretary of the Interior.

DATES: The meeting will take place on June 18, 2008, from 8 a.m. to 4:30 p.m.

ADDRESSES: USFWS Mountain-Prairie Regional Office, 134 Union Blvd., Lakewood, Colorado 80228. For more information, see “Meeting Location Information” under SUPPLEMENTARY INFORMATION.

FOR FURTHER INFORMATION CONTACT: Rachel London, Division of Habitat and Resource Conservation, U.S. Fish and Wildlife Service, Department of the Interior, (703) 358-2161.

SUPPLEMENTARY INFORMATION:

Background

On March 13, 2007, the Department of the Interior (Interior) published a notice of establishment of the Committee and call for nominations in the Federal Register (72 FR 11373). The Committee's purpose is to provide advice and recommendations to the Secretary of the Interior (Secretary) on developing effective measures to avoid or minimize impacts to wildlife and their habitats related to land-based wind energy facilities. The Committee is expected to exist for 2 years. Its continuation is subject to biennial renewal. The Committee will meet approximately four times per year. All Committee members serve without compensation. In accordance with the Federal Advisory Committee Act (5 U.S.C. App.), a copy of the Committee's charter has been filed with the Committee Management Secretariat, General Services Administration; Committee on Environment and Public Works, U.S. Senate; Committee on Natural Resources, U.S. House of Representatives; and the Library of Congress. The Secretary appointed 22 individuals to the Committee on October 24, 2007, representing the varied interests associated with wind energy development and its potential impacts to wildlife species and their habitats. The USFWS has held Committee meetings in February and April 2008. All Committee meetings are open to the public. The public will have an opportunity to comment at all Committee meetings.

Meeting Location Information

Please note that the USFWS Mountain-Prairie Regional Office is accessible to wheelchair users. If you require additional accommodations, please notify us by June 11, 2008.

If you plan on attending the meeting, please register at http://www.fws.gov/habitatconservation/windpower/wind_turbine_advisory_committee.html by June 11, 2008. While this meeting is open to the public, seating is limited due to room capacity. We will give preference to registrants based on date and time of registration. There will be standing room available if seats are filled.

Dated: May 8, 2008.
David J. Stout,
Wind Turbine Guidelines Advisory Committee Designated Federal Officer.

[FR Doc. E8-11347 Filed 5-20-08; 8:45 am]

BILLING CODE 4310-55-P